DEPARTMENT OF THE INTERIOR

National Park Service

[N6500; NPS-WASO-NAGPRA-NPS0041041; PPWOCRADN0-PCU00RP14.R50000]

Notice of Inventory Completion: The University of Tennessee, Department of Anthropology, Knoxville, TN

AGENCY: National Park Service, Interior.

ACTION: Notice.

SUMMARY: In accordance with the Native American Graves Protection and Repatriation Act (NAGPRA), the University of Tennessee, Knoxville, Department of Anthropology (UTK), has completed an inventory of human remains and has determined that there is a cultural affiliation between the human remains and Indian Tribes or Native Hawaiian organizations in this notice.

DATES: Repatriation of the human remains in this notice may occur on or after October 14, 2025.

ADDRESSES: Send written requests for repatriation of the human remains in this notice to Dr. Ellen Lofaro, University of Tennessee, Office of Repatriation, 5723 Middlebrook Pike, Knoxville, TN 37921-6053, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, 31 individuals have been identified. No associated funerary objects are present. These individuals were recovered from the Woodruff Ossuary site, 14PH4, in Phillips County, Kansas, by J.M. Shippee and Martin F. Kivett of the River Basin Surveys (RBS) and A.T. Hill of the Nebraska State Historical Society between October 17th and November 11th, 1946. This site dates to the Early Woodland Keith Phase in northern Kansas with a radiocarbon dated range of 1343 +/−240 years BP or A.D. 611 +/−240. These individuals were moved to the RBS laboratory in Lincoln, Nebraska, and then transferred to the Smithsonian National Museum of Natural History where William Bass examined them in 1957. These individuals were either retained by Bass and brought with him when he began working at UTK in 1971 or borrowed by him at a later date and not returned. To our knowledge, no potentially hazardous substances have been used to treat any of the Ancestral remains.

Cultural Affiliation

Based on the information available and the results of consultation, cultural affiliation is clearly identified by the information available about the human remains described in this notice.

Determinations

UTK has determined that:

• The human remains described in this notice represent the physical remains of 31 individuals of Native American ancestry.

• There is a connection between the human remains described in this notice and the Cheyenne River Sioux Tribe of the Cheyenne River Reservation, South Dakota; Kaw Nation, Oklahoma; and the Pawnee Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after October 14, 2025. If competing requests for repatriation are received, UTK must determine the most appropriate requestor prior to repatriation. Requests for joint repatriation of the human remains are considered a single request and not competing requests. UTK are responsible for sending a copy of this notice to the Indian Tribes and Native Hawaiian organizations identified in this notice.

Authority: Native American Graves Protection and Repatriation Act, 25 U.S.C. 3003, and the implementing regulations, 43 CFR 10.10.

Dated: August 29, 2025.
Melanie O'Brien,
Manager, National NAGPRA Program.

[FR Doc. 2025-17629 Filed 9-11-25; 8:45 am]

BILLING CODE 4312-52-P